DEPARTMENT OF ENERGY

[OE Docket No. EA-64-A]

Application To Export Electric Energy; Basin Electric Power Cooperative

AGENCY: Office of Electricity Delivery and Energy Reliability, DOE.

ACTION: Notice of application.

SUMMARY: Basin Electric Power Cooperative (Basin Electric) has applied to amend its authorization to export electric energy from the United States to Canada issued pursuant to section 202(e) of the Federal Power Act.

DATES: Comments, protests, or requests to intervene must be submitted on or before November 23, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On March 6, 1980, DOE issued Order No. EA-64 authorizing Basin Electric to transmit electric energy from the United States to Saskatchewan Power Corporation (SaskPower), the provincial electric utility of Saskatchewan, Canada, using Basin Electric's international transmission facilities known as the Tioga-Saskatchewan 230-kV intertie. Construction of these facilities was authorized by DOE in Presidential Permit No. PP-64. Order No. EA-64 contained limits on the capacity and energy that could be exported during peak and non-peak times in accordance with the 1978 Interconnection and Transaction Agreement between Basin Electric and SasksPower. For peaking exports, Basin Electric was limited to a capacity of 100 megawatts with an energy limit of 438,000 megawatt hours (MWH) in any calendar year.

On October 13, 2009, Basin Electric applied to DOE to amend Order No. EA-64 in order to be able to export to NorthPoint Energy Solutions, a subsidiary of SaskPower, and future purchasers inside Canada. In addition, Basic Electric seeks to remove the 438,000-MWH energy limit and increase the capacity limit to 165 MW, which Basin Electric claims is the present total transfer capacity of the Tioga-Saskatchewan 230-kV intertie.

The electric energy which Basin Electric proposes to export to Canada would be provided from its own generation resources or purchased by Basin Electric from other sources.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the Basin Electric application to export electric energy to Canada should be clearly marked with Docket No. EA-64-A. Additional copies are to be filed directly with Dave Rantz, Basin Electric Power Cooperative, 1717 Interstate Avenue, Bismarck, ND 58503. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on October 16, 2009.
Ellen Russell,
Acting Director, Permitting and Siting, Office of Electricity Delivery and Energy Reliability.

[FR Doc. E9-25437 Filed 10-21-09; 8:45 am]

BILLING CODE 6450-01-P